DEPARTMENT OF THE INTERIOR

National Park Service

[NPS-WASO-NAGPRA-NPS0040363; PPWOCRADN0-PCU00RP14.R50000]

Notice of Inventory Completion: University of Michigan, Ann Arbor, MI

AGENCY: National Park Service, Interior.

ACTION: Notice.

SUMMARY: In accordance with the Native American Graves Protection and Repatriation Act (NAGPRA), the University of Michigan has completed an inventory of human remains (hereinafter referred to as “Ancestral remains” or “Ancestors”) and associated funerary objects and has determined that there is a cultural affiliation between the Ancestral remains and associated funerary objects and Indian Tribes or Native Hawaiian organizations in this notice.

DATES: Repatriation of the Ancestral remains and associated funerary objects in this notice may occur on or after July 17, 2025.

ADDRESSES: Send written requests for repatriation of the ancestral remains and associated funerary object in this notice to Dr. Ben Secunda, NAGPRA Office Managing Director, University of Michigan, Office of Research, Suite G269, Lane Hall, Ann Arbor, MI 48109-1274, email bsecunda@umich.edu.

SUPPLEMENTARY INFORMATION: This notice is published as part of the National Park Service's administrative responsibilities under NAGPRA. The determinations in this notice are the sole responsibility of the University of Michigan, and additional information on the determinations in this notice, including the results of consultation, can be found in its inventory or related records. The National Park Service is not responsible for the determinations in this notice.

Abstract of Information Available

Ancestral remains representing, at least, one individual have been identified. The three associated funerary objects are one lot of earthenware sherds, one lot of unworked animal bone fragments in soil matrix, and one lot of worked gastropod columella shell central spiral. In February of 1946, Ancestral remains from the Collier City/Fort Drum site in Okeechobee Co, FL, were removed by Violet K. Hanley and donated to UMMAA in 1950. The Ancestral remains are of an adult of indeterminate sex. Dating for the site is unknown.

Ancestral remains representing, at least, one individual have been identified. The four associated funerary objects are one lot of worked Busycon sp. shell, one lot of earthenware rim sherds, one lot of earthenware body sherds, and one lot of animal bone fragment. In 1948, Ancestral remains from the Collier City Marco Island site (8CR45, 8CR46) in Collier Co, FL, were removed by Violet K. Hanley and donated to the UMMAA in 1948. The Ancestral remains are of an adult of indeterminate sex. Dating for the site is unknown.

Ancestral remains representing, at least, one individual have been identified. No associated funerary objects are present. Prior to 1941, Ancestral remains from the Key near Stuart site from Martin Co, FL, were removed by Dr. E.J. O'Brien and Captain O.L. Hawk during a visit to an island 40-50 miles northeast of Palm Beach near Stuart. The Ancestral remains are of an adult 40-55 years. Dating for the site is unknown.

Ancestral remains representing, at least, one individual have been identified. No associated funerary objects are present. On May 11th, 1931, Ancestral remains from the Lake Dora site from Lake Co, FL, were donated to UMMAA by Robert M. Mansfield. The Ancestral remains are of an adult 35+ years, possible male. Dating for the site is unknown.

Ancestral remains representing, at least, one individual have been identified. No associated funerary objects are present. In 1933, Ancestral remains from the Morey Beach site from Pinellas Co, FL, were donated to UMMAA by William Fargo, who obtained the Ancestral remains from M. B. Harden. The Ancestral remains are of an adult 30+ years male. Dating for the site is unknown.

Ancestral remains representing, at least, two individuals have been identified. No associated funerary objects are present. On an unknown date, Ancestral remains from the Hog Island site from Hillsboro Co, FL, were donated to UMMAA by an unknown individual. The Ancestral remains are of two adults of indeterminate sex. Dating for the site is unknown.

Ancestral remains representing, at least, two individuals have been identified. No associated funerary objects are present. On an unknown date, Ancestral remains from the Fernandina site from Nassau Co, FL, were donated to UMMAA by an unknown individual. The Ancestral remains are of two adults of indeterminate sex. Dating for the site is unknown.

Ancestral remains representing, at least, one individual have been identified. The one associated funerary object is one lot worked shell tools. On an unknown date, Ancestral remains from the Tick Island site (8VO24, 8VO25) from Volusia Co, FL, were removed from the site and donated to UMMAA by an unknown individual. The associated funerary object was removed from the site and donated to UMMAA in 1963 by R.P. Bullen. The Ancestral remains are of one adult of indeterminate sex. Dating for the site is unknown.

The University of Michigan has no record of, nor do its officials have any knowledge of, any treatment of items with pesticides, preservatives, or other substances that represent a potential hazard to the collection(s) or to persons handling the collection(s).

Cultural Affiliation

Based on the information available and the results of consultation, cultural affiliation is reasonably identified by the geographical location or acquisition history of the Ancestral remains and associated funerary objects described in this notice.

Determinations

The University of Michigan has determined that:

• The Ancestral remains described in this notice represent the physical remains of 10 individuals of Native American ancestry.

• The eight objects described in this notice are reasonably believed to have been placed intentionally with or near individual Ancestral remains at the time of death or later as part of the death rite or ceremony.

• There is a connection between the Ancestral remains and associated funerary objects described in this notice and the Miccosukee Tribe of Indians; Seminole Tribe of Florida; and The Seminole Nation of Oklahoma.

Requests for Repatriation

Written requests for repatriation of the Ancestral remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the Ancestral remains and associated funerary objects described in this notice to a requestor may occur on or after July 17, 2025. If competing requests for repatriation are received, the University of Michigan must determine the most appropriate requestor prior to repatriation. Requests for joint repatriation of the Ancestral remains and associated funerary objects are considered a single request and not competing requests. The University of Michigan is responsible for sending a copy of this notice to the Indian Tribes and Native Hawaiian organizations identified in this notice.

Authority: Native American Graves Protection and Repatriation Act, 25 U.S.C. 3003, and the implementing regulations, 43 CFR 10.10.

Dated: June 6, 2025.
Melanie O'Brien,
Manager, National NAGPRA Program.

[FR Doc. 2025-11145 Filed 6-16-25; 8:45 am]

BILLING CODE 4312-52-P